INTERNATIONAL TRADE COMMISSION

[Investigation No. 731-TA-149 (Fourth Review)]

Barium Chloride From China; Determination

On the basis of the record ¹ developed in the subject five-year review, the United States International Trade Commission (“Commission”) determines, pursuant to the Tariff Act of 1930, that revocation of the antidumping duty order on barium chloride from China would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted this review on May 1, 2015 (80 FR 24973) and determined on August 4, 2015 that it would conduct an expedited review (80 FR 50869, August 21, 2015).

The Commission made this determination pursuant to section 751(c) of the Tariff Act of 1930 (19 U.S.C. 1675(c)). It completed and filed its determination in this review on October 27, 2015. The views of the Commission are contained in USITC Publication 4574 (October 2015), entitled Barium Chloride from China: Investigation No. 731-TA-149 (Fourth Review).

By order of the Commission.
Issued: October 27, 2015.
William R. Bishop,
Supervisory Hearings and Information Officer.

[FR Doc. 2015-27739 Filed 10-29-15; 8:45 am]

BILLING CODE 7020-02-P